ENVIRONMENTAL PROTECTION AGENCY

[FRL-9220-8]

Meeting of the Local Government Advisory Committee

AGENCY: Environmental Protection Agency.

ACTION: Notice.

SUMMARY: The Local Government Advisory Committee (LGAC) will meet on November 17-18, 2010, in Washington, DC. The Committee meeting will be located at The Hall of States, 444 North Capitol Street, NW., Washington, DC. The focus of the Committee meeting will be on Administrator Lisa P. Jackson's priorities for EPA: Protecting America's waters; cleaning up our communities; expanding the conversation on environmental protection; improving air quality; taking action on climate change; assuring the safety of chemicals, and building strong partnerships.

This is an open meeting and all interested persons are invited to attend. The Committee will hear comments from the public between 3:15 p.m. and 3:45 p.m. on Wednesday, November 17, 2010. Individuals or organizations wishing to address the LGAC meeting will be allowed a maximum of five minutes to present their point of view. Also, written comments should be submitted electronically to Eargle.Frances@epa.gov. Please contact the Designated Federal Officer (DFO) at the number listed below to schedule agenda time. Time will be allotted on a first come first serve basis, and the total period for comments may be extended if the number of requests for appearances requires it.

DATES: November 17-18, 2010.

ADDRESSES: The LGAC meeting will be held at The Hall of States, located at 444 North Capitol Street NW., Washington DC. The Committee's meeting minutes and summary notes will be available after the meeting online at http://www.epa.gov/ocir/scas and can be obtained by written request to the DFO.

FOR FURTHER INFORMATION CONTACT: Frances Eargle, DFO for the Local Government Advisory Committee (LGAC) at (202) 564-3115 or e-mail at Eargle.frances@epa.gov.

INFORMATION ON SERVICES FOR THOSE WITH DISABILITIES: For Information on access or services for individuals with disabilities, please contact Frances Eargle at (202) 564-3115 or eargle.frances@epa.gov. To request accommodation of a disability, please request it 10 days prior to the meeting, to give EPA as much time as possible to process your request.

Dated: October 29, 2010.
Frances Eargle,
Designated Federal Officer, Local Government Advisory Committee.

[FR Doc. 2010-27875 Filed 11-2-10; 8:45 am]

BILLING CODE 6560-50-P